DEPARTMENT OF THE INTERIOR

National Park Service

[NPS-WASO-VRP-WS-21876; PPWOVPADW0, PPMPRLE1Y.LB0000 (166)]

Proposed Information Collection; Backcountry/Wilderness Use Permit

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2017. We may not conduct or sponsor a survey, and a person is not required to respond to a collection of information, unless it displays a currently valid OMB control number.

DATES: To ensure that we are able to consider your comments on this IC, we must receive them by November 14, 2016.

ADDRESSES: Send your comments on the IC to Madonna L. Baucum, Information Collection Clearance Officer, National Park Service, 12201 Sunrise Valley Drive, MS-242, Reston, VA 20192 (mail); or madonna_baucum@nps.gov (email). Please include “1024-0022” in the subject line of your comments.

FOR FURTHER INFORMATION CONTACT: To request additional information about this IC, contact Roger Semler, Chief, Wilderness Stewardship Division, Visitor & Resource Protection Directorate, National Park Service, 1201 I Street NW., Room 940, Washington, DC 20005 (mail); or roger_semler@nps.gov (email). Please include “1024-0022” in the subject line.

SUPPLEMENTARY INFORMATION:

I. Abstract

In 1976, the NPS initiated a backcountry registration system in accordance with the regulations found at 36 CFR 1.5, 1.6 and 2.10. The objective of the registration system is to provide users access to backcountry and wilderness areas of national parks with continuing opportunities for solitude and primitive and unconfined recreation, while enhancing protection of natural and cultural resources and providing a means of disseminating public safety and outdoor ethics messages regarding backcountry/wilderness travel and camping. NPS backcountry/wilderness program managers, by designating access and travel routes and camping locations, can redistribute backcountry/wilderness users in response to closures and public use adverse impacts to natural and cultural resources. The system also facilitates redistribution of backcountry/wilderness users due to public safety hazards related to high fire danger, flood, wind, snow or ice hazards hazard, bear activity, or other situations that may temporarily close or restrict access to a portion of the backcountry/wilderness.

The NPS uses the registration system as a means of ensuring backcountry/wilderness users receive up-to-date information on outdoor ethics which minimize social and resource impacts including, but not limited to, sanitation procedures, food storage, campfire use, campsite selection, as well as wildlife activity, trail conditions and weather forecasts to address concerns for visitor safety. Data collected through the registration process is also an important source of information for first responders in the event of an emergency requiring deployment of search and rescue personnel to backcountry/wilderness areas. The registration system also serves to document the spatial and temporal extent, distribution and demographics associated with backcountry/wilderness use and social considerations and perceptions of backcountry/wilderness visitors. All of this information serves as an important resource that informs backcountry and wilderness management and stewardship planning, decision making, and operations.

The Backcountry/Wilderness Use Permit is an extension of the NPS statutory authority responsibility to protect the park areas it administers and to manage the public use thereof (54 U.S.C. 100101, 100751, 3210102). NPS regulations codified in 36 CFR parts 1 through 7, 12 and 13 are designated to implement statutory mandates that provide for resource protection and pubic enjoyment. NPS Forms 10-404, “Backcountry/Wilderness Use Permit Application” and 10-404A, “Backcountry/Wilderness Use Permit Hangtag” are the primary forms used to provide access into NPS backcountry areas including those areas that require a reservation to enter where use limits are imposed in accordance with other NPS regulations. Such permitting enhances the ability to the NPS to educate users on potential hazards, search and rescue efforts, and resource protection.

II. Data

OMB Control Number: 1024-0022.

Expiration Date: May 31, 2016.

Title: Backcountry/Wilderness Use Permit (36 CFR 1.5, 1.6, and 2.10).

Service Form Numbers: NPS Forms 10-404, Backcountry/Wilderness Use Permit” and 10-404A, “Backcountry/Wilderness Use Permit Hangtag”.

Type of Request: Revision of a currently approved collection of information.

Description of Respondents: Individuals wishing to use backcountry and wilderness areas within national parks.

Estimated Average Number of Responses: 285,000.

Frequency of Response: 1 per respondent.

Estimated Average Time Burden per Respondent: 5 minutes.

Estimated Total Annual Reporting Burden: 23,750 hours.

Respondent's Obligation: Required to obtain or retain a benefit.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 8, 2016.
Madonna L. Baucum,
Information Collection Clearance Officer, National Park Service.

[FR Doc. 2016-22010 Filed 9-13-16; 8:45 am]

BILLING CODE 4310-EH-P